DEPARTMENT OF COMMERCE

International Trade Administration

[A-580-815, A-580-816]

Notice of Amended Final Results of Antidumping Duty Administrative Review: Cold-Rolled and Corrosion Resistant Carbon Steel Products from Korea

AGENCY: Import Administration, International Trade Administration, Department of Commerce.

ACTION: Notice of Amended Final Results of Antidumping Duty Administrative Review of Cold-Rolled and Corrosion Resistant Carbon Steel Products from the Republic of Korea.

DATES: April 29, 2002.

FOR FURTHER INFORMATION CONTACT: Mesbah Motamed, AD/CVD Enforcement Group III, Office 9, Import Administration, International Trade Administration, U.S. Department of Commerce, 14th Street and Constitution Avenue, N.W., Washington, DC 20230; telephone: (202) 482-1382.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 CFR part 351 (2001).

Scope Of The Reviews

The review of “certain cold-rolled carbon steel flat products” covers cold-rolled (cold-reduced) carbon steel flat-rolled products, of rectangular shape, neither clad, plated nor coated with metal, whether or not painted, varnished or coated with plastics or other nonmetallic substances, in coils (whether or not in successively superimposed layers) and of a width of 0.5 inch or greater, or in straight lengths which, if of a thickness less than 4.75 millimeters, are of a width of 0.5 inch or greater and which measures at least 10 times the thickness, or if of a thickness of 4.75 millimeters or more are of a width which exceeds 150 millimeters and measures at least twice the thickness, as currently classifiable in the Harmonized Tariff Schedule (“HTS”) under item numbers 7209.15.0000, 7209.16.0030, 7209.16.0060, 7209.16.0090, 7209.17.0030, 7209.17.0060, 7209.17.0090, 7209.18.1530, 7209.18.1560, 7209.18.2550, 7209.18.6000, 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7215.50.0015, 7215.50.0060, 7215.50.0090, 7215.90.5000, 7217.10.1000, 7217.10.2000, 7217.10.3000, 7217.10.7000, 7217.90.1000, 7217.90.5030, 7217.90.5060, 7217.90.5090. Included in this review are flat-rolled products of nonrectangular cross-section where such cross-section is achieved subsequent to the rolling process (i.e., products which have been “worked after rolling”) for example, products which have been beveled or rounded at the edges. Excluded from this review is certain shadow mask steel, i.e., aluminum-killed, cold-rolled steel coil that is open-coil annealed, has a carbon content of less than 0.002 percent, is of 0.003 to 0.012 inch in thickness, 15 to 30 inches in width, and has an ultra flat, isotropic surface.

The review of “certain corrosion-resistant carbon steel flat products” covers flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the HTS under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this review are flat-rolled products of non-rectangular cross-section where such cross-section is achieved subsequent to the rolling process (i.e., products which have been “worked after rolling”) for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat-rolled products, which are three-layered corrosion-resistant carbon steel flat-rolled products less than 4.75 millimeters in composite thickness that consist of a carbon steel flat-rolled product clad on both sides with stainless steel in a 20%-60%-20% ratio.

These HTS item numbers are provided for convenience and U.S. Customs purposes. The written descriptions remain dispositive.

Amendment Of Final Results

On March 11, 2002, the Department of Commerce (“the Department”) issued its final results for certain cold-rolled and corrosion resistant carbon steel flat products from Korea. The period of review for cold-rolled products is August 1, 1999 through December 31, 1999, and the period of review for corrosion resistant products is August 1, 1999 through July 31, 2000. See Notice of Final Results of Antidumping Duty Administrative Reviews; Certain Cold-Rolled and Corrosion Resistant Carbon Steel Flat Products from Korea, 67 FR 11976, (March 18, 2002), (“Final Results”).

On March 18, 2002, respondent Union Steel Manufacturing Co., Ltd. (“Union”) timely filed an allegation that the Department made a ministerial error in the final results. Petitioners did not submit any comments in reply to this ministerial error allegation.

On March 19, 2002, petitioners timely filed an allegation that the Department made a ministerial error in the final results of Pohang Iron and Steel Co., Ltd et al (“POSCO”). POSCO timely submitted its rebuttal comments on March 25, 2002.

Section 735(e) of the Act defines a “ministerial error” to include “errors in addition, subtraction, or other arithmetic function, clerical errors resulting from inaccurate copy, duplication, or the like, and any other type of unintentional error which the administrative authority considers ministerial.” See also section 351.224(f) of the Department's regulations. The Department is revising its dumping margin calculation as a result of a ministerial error in the calculation of Union's and POSCO's indirect selling expense ratio. The resulting margins are listed below.

Allegation of a Ministerial Error Regarding Union

Union contends that the Department, in its Final Results, erroneously calculated its indirect selling expense (“ISE”) ratio for its sales of cold-rolled and corrosion resistant products. Specifically, in calculating the corrosion resistant ISE ratio, Union argues that the Department applied a value for Union's total sales that was not POR-specific. Additionally, according to Union, the Department applied non-Union-specific values for Union's interest expenses and income for both cold-rolled and corrosion-resistant products.

Department's Position

We agree with Union. Our Final Results inadvertently overstated Union's indirect selling expense ratio by using certain values that were not specific to either the POR or Union, thus generating an inaccurate dumping margin. We have updated this calculation. These changes do not alter the dumping margin on cold-rolled steel products from Union. For more details surrounding these corrections, see Analysis for the Amended Final Results in the Administrative Review of the Antidumping Duty Order on Cold-Rolled and Corrosion Resistant Carbon Steel Products from Korea- Union Steel Manufacturing Co., Ltd. (“Union's Analysis Memo”).

Allegation of a Ministerial Error Regarding POSCO

Petitioners argue that the Department used amounts for POSCO's interest expenses and income that were not POR-specific. The use of these incorrect amounts, according to petitioners, generated an understatement of POSCO's ISE ratio. According to petitioners, the Department should use the POR-specific values submitted by POSCO in its calculation of the ISE ratio.

POSCO objects to petitioners' arguments and claims the Department's calculations reflect methodological decisions, not ministerial errors, as they are not errors in “addition, subtraction, or other arithmetic function, clerical error resulting from the inaccurate copying, duplication, or the like, and any other similar type of unintentional error which the Secretary considers ministerial.” POSCO contends that the calculations, as detailed and referenced in the analysis memo, reflect the deliberate intention of the Department to calculate POSCO's ISE ratio in a particular manner.

Department's Position

We agree with petitioners that the Department's calculation contained two ministerial errors in the use of the calendar year 2000 interest expenses and calendar year 2000 interest income. The Department intended to calculate POR-specific values for the ISE ratio but inadvertently used the wrong values. The Department has corrected the program accordingly. For more details surrounding this corrections, see Analysis for the Amended Final Results of the Seventh Administrative Reviews of Certain Cold-Rolled and Corrosion-Resistant Carbon Steel Flat Products from Korea- Pohang Iron and Steel Co., Ltd., Pohang Coated Steel Co., Ltd., and Pohang Steel Industries Co., Ltd., (“POSCO's Analysis Memo”).

Conclusion

We are amending the final results of the antidumping duty administrative review of cold-rolled and corrosion resistant carbon steel products from Korea to reflect the correction of the above-cited ministerial errors. The amended final results are as follows:

Certain Corrosion-Resistant Carbon Steel Flat Products: Producer/ Manufacturer/Exporter | Certain Corrosion-Resistant Carbon Steel Flat Products: Weighted-Average Margin
The POSCO Group | 0.86
Union | 0.27

We are issuing and publishing this determination and notice in accordance with sections 751(a)(1) and 777(i) of the Act.

April 18, 2002
Bernard Carreau,
Acting Assistant Secretary for Import Administration.

[FR Doc. 02-10482 Filed 4-26-02; 8:45 am]

BILLING CODE 3510-DS-S